DEPARTMENT OF HEALTH AND HUMAN SERVICES

Centers for Disease Control and Prevention

Disease, Disability, and Injury Prevention and Control

Special Emphasis Panel: Occupational Safety and Health Training Project Grant, Program Announcement PAR 10-288, initial review.

In accordance with section 10(a)(2) of the Federal Advisory Committee Act (Pub. L. 92-463), the Centers for Disease Control and Prevention (CDC) announces the aforementioned meeting:

Times and Dates: 8:30 a.m.-5 p.m., March 17, 2011 (Closed).

Place: Courtyard Marriott, 2700 Eisenhower Avenue, Alexandria, Virginia 22314-4553, Telephone (703) 329-2323.

Status: The meeting will be closed to the public in accordance with provisions set forth in section 552b(c)(4) and (6), Title 5 U.S.C., and the Determination of the Director, Management Analysis and Services Office, CDC, pursuant to Public Law 92-463.

Matters to be Discussed: The meeting will include the initial review, discussion, and evaluation of “Occupational Safety and Health Training Project Grant, PAR 10-288.”

Contact Person for More Information: M. Chris Langub, PhD, Scientific Review Officer, CDC, 1600 Clifton Road NE., Mailstop E74, Atlanta, Georgia 30333, Telephone (404) 498-2543.

The Director, Management Analysis and Services Office, has been delegated the authority to sign Federal Register notices pertaining to announcements of meetings and other committee management activities, for both the Centers for Disease Control and Prevention and the Agency for Toxic Substances and Disease Registry.

Dated: February 14, 2011.
Elaine L. Baker,
Director, Management Analysis and Services Office Centers for Disease Control and Prevention.

[FR Doc. 2011-4197 Filed 2-23-11; 8:45 am]

BILLING CODE 4163-18-P